ENVIRONMENTAL PROTECTION AGENCY

[OPP-64055; FRL-6773-4]

Notice of Receipt of Requests for Amendments to Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendment by registrants to delete uses in certain pesticide registrations.

DATES: Unless a request is withdrawn, the Agency will approve these use deletions and the deletions will become effective on October 1, 2001 unless indicated otherwise.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 266A, Crystal Mall No. 2, 1921 Jefferson Davis Highway, Arlington, VA 22202, (703) 305-5761; e-mail: hollins.james@epa.gov.

SUPPLEMENTARY INFORMATION:

I. General Information

A. Does This Action Apply to Me?

This action is directed to the public in general. Although this action may be of particular interest to persons who produce or use pesticides, the Agency has not attempted to describe all the specific entities that may be affected by this action. If you have any questions regarding the information in this notice, consult the person listed in the FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations” “Regulations and Proposed Rules,” and then look up the entry for this document under the “Federal Register—Environmental Documents.” You can also go directly to the Federal Register listing at http://www.epa.gov/fedrgstr/.

2. In person. Contact James A. Hollins at 1921 Jefferson Davis Highway, Crystal Mall 2, Rm. 224, Arlington, VA, telephone number (703) 305-5761. Available from 7:30 a.m. to 4:45 p.m., Monday through Friday, excluding legal holidays.

II. What Action is the Agency Taking?

This notice announces receipt by the Agency of applications from registrants to delete uses in four pesticide registrations. These registrations are listed in the following Table 1 by registration number, product name, active ingredient and specific uses deleted:

Table 1.— Registrations With Requests for Amendments to Delete Uses in Certain Pesticide Registrations
Registration No. | Product/Chemical Name | Delete From Label
000352-00564 | Benlate SP Fungicide | Control of seed borne fusarium on long leaf pine seeds in Alabama, Georgia, North Carolina and South Carolina
| Benomyl |
001258-00840 | Zinc Omadine Powder | Metal cutting fluid use
| Zinc 2-pyridinethiol-1-oxide |
001258-00841 | Zinc Omadine 48% Dispersion | Metal cutting fluid use
| Zinc 2-pyridinethiol-1-oxide |
005905-00196 | Fyfanon, The Premium Grade Malathion | Grapes (other than nursery stock)
| Malathion |

Users of these products who desire continued use on crops or sites being deleted should contact the applicable registrant before October 1, 2001 unless indicated otherwise, to discuss withdrawal of the application for amendment. This 180-day period will also permit interested members of the public to intercede with registrants prior to the Agency's approval of the deletion.

The following Table 2 includes, the names and addresses of record for all registrants of the products in Table 1, in sequence by EPA company number.

Table 2.— Registrants Requesting Voluntary Cancellation
EPA Company No. | Company Name and Address
000352 | E. I. Du Pont De Nemours and Company, Barley Mill Plaza, Walker's Mill, Wilmington, DE 19880.
001258 | Arch Chemicals, Inc., 501 Merritt 7, Norwalk, CT 06856.
005905 | Helena Chemical Co., 6075 Poplar Ave, Suite 500, Memphis, TN 38119.

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. How and to Whom Do I Submit Withdrawal Requests?

1. By mail: Registrants who choose to withdraw a request for use deletion must submit such withdrawal in writing to James A. Hollins, at the address given above, postmarked May 4, 2001.

2. In Person or by courier: Deliver your withdrawal request to: Document Processing Desk (DPD), Information Services Branch, Office of Pesticide Programs (OPP), Environmental Protection Agency, Room 266A, Crystal Mall 2, 1921 Jefferson Davis Highway, Arlington, VA. The DPD is open from 8:00 a.m. to 4:30 p.m., Monday through Friday, excluding legal holidays. The DPD telephone number is (703) 305-5263.

3. Electronically. You may submit your withdrawal request electronically by e-mail to: hollins.james@epa.gov. Do not submit any information electronically that you consider to be CBI. Avoid the use of special characters and any form of encryption. Electronic submissions will be accepted in WordPerfect 6.1/8.0 or ASCII file format.

V. Provisions for Disposition of Existing Stocks

The Agency has authorized the registrants to sell or distribute product under the previously approved labeling for a period of 18 months after approval of the revision, unless other restrictions have been imposed, as in special review actions.

List of Subjects

Environmental protection, Pesticides and pests, Product registrations.

Dated: March 19, 2001.
Richard D. Schmitt,
Associate Director, Information Resources and Services Division, Office of Pesticide Programs.

[FR Doc. 01-8139 Filed 4-3-01; 8:45 a.m.]

BILLING CODE 6560-50-S